Proclamation 10459 of September 30, 2022

National Clean Energy Action Month, 2022

By the President of the United States of America

A Proclamation

During National Clean Energy Action Month, we strive to turn the climate crisis into opportunity and recommit to moving America to a clean energy future. By leading the world in manufacturing and exporting clean energy technologies, creating good-paying union jobs, lowering costs for families, and addressing environmental injustice, the United States can meet one of the most consequential challenges of our time.

During my first year in office, my Administration set a groundbreaking goal: to cut our Nation's greenhouse gas emissions in half by 2030, reach 100 percent clean electricity by 2035, and achieve net-zero greenhouse gas emissions by 2050. We have made significant progress, creating the first-ever National Climate Task Force, reinstating and strengthening environmental protections, and inspiring record-breaking private sector commitments to transition to clean energy.

I have also signed key legislation to propel us toward these goals, including the historic Inflation Reduction Act, which is the largest investment to combat climate change in American history. This law will create a generation of good-paying jobs by expanding clean energy. It provides consumers with tax credits to buy electric cars or fuel cell vehicles, saving costs at the gas pump. It helps families keep cool in the summer and warm in the winter with rebates for efficient appliances and home weatherization. And it strengthens our energy security with incentives for clean energy production. In total, this law will save families hundreds of dollars per year in energy costs and reduce our Nation's greenhouse gas emissions by a billion metric tons in the year 2030 alone.

These actions build on my Administration's Bipartisan Infrastructure Law, an unprecedented investment to fortify our infrastructure against the climate crisis. Through this law, we are modernizing public transit with the latest clean energy technology, upgrading our power grid, and implementing a nationwide electric vehicle charging network. We are funding thousands of miles of new, resilient transmission lines to deliver clean energy to American homes and businesses. We are fortifying our grid to improve our energy security and independence. Most importantly, we are creating jobs across the country, putting plumbers, pipefitters, electrical workers, steel workers, and so many others to work on projects that support families and help tackle the climate crisis.

My Administration will prioritize ensuring that frontline and fence-line communities most impacted by climate change receive the benefits of the clean energy economy. That is why I made a commitment to deliver 40 percent of the benefits from Federal investments in climate and clean energy to disadvantaged communities and why I established a White House Environmental Justice Advisory Council in my first month in office. At the same time, we take seriously our responsibility to create new, good-paying jobs for the hardworking Americans in energy communities that have powered our economy for over a century and often suffer from legacy pollution caused by fossil fuels. To this end, we are helping these communities access the resources they need to spur economic revitalization and clean up environmental pollution.

The climate crisis is here. Our Nation—and the world—sits at an inflection point. By investing in clean energy, modernizing our infrastructure, and ensuring that everyone benefits in the process, we can build a safer, healthier, and more energy-secure future.

NOW, THEREFORE, I, JOSEPH R. BIDEN JR., President of the United States of America, by virtue of the authority vested in me by the Constitution and the laws of the United States, do hereby proclaim October 2022 as National Clean Energy Action Month. I call upon the citizens of the United States to recognize this month by working together to mitigate climate change and achieve a healthier environment for all.

IN WITNESS WHEREOF, I have hereunto set my hand this thirtieth day of September, in the year of our Lord two thousand twenty-two, and of the Independence of the United States of America the two hundred and forty-seventh.

[FR Doc. 2022-21773

Filed 10-4-22; 8:45 am]

Billing code 3395-F3-P